DEPARTMENT OF HEALTH AND HUMAN SERVICES

Centers for Disease Control and Prevention

[60Day-00-51]

Proposed Data Collections Submitted for Public Comment and Recommendations

In compliance with the requirement of Section 3506 (c) (2) (A) of the Paperwork Reduction Act of 1995, the Centers for Disease Control and Prevention (CDC) is providing an opportunity for public comment on proposed data collection projects. To request more information on the proposed projects or to obtain a copy of the data collection plans and instruments, call the CDC Assistant Reports Clearance Officer at 404-639-7090.

Comments are invited on: (i) Whether the proposed collection of information is necessary for the proper performance of the functions of the CDC, including whether the information shall have a practical utility; (ii) the accuracy of the agency's estimate of the burden of the proposed collection of information; (iii) ways to enhance the quality, utility, and clarity of the information to be collected; and (iv) ways to minimize the burden of the collection of information on respondents, including the use of automated collection techniques or other forms of information technology. Send comments to Seleda M. Perryman, CDC Assistant Reports Clearance Officer, 1600 Clifton Road, MS-D24, Atlanta, Georgia 30333. Written comments should be received within 60 days of this notice.

Proposed Project

Travelers' Health Survey—New—National Center for Infectious Diseases (NCID). Approximately 50 million Americans travel abroad each year and more than 25 million of these travel to rural areas or developing countries where the risk is greater for contracting infectious diseases. Many of these diseases are preventable through vaccines, drugs, and other preventive measures. According to surveillance data from the CDC, over 99 percent of malaria, 72 percent of typhoid, and 7 percent of hepatitis A cases in the U.S. are acquired abroad. Information on preventing illness during travel is available free or at little cost through public health departments, a CDC toll-free fax system, and the Internet. However, many travelers may be unaware of the health risks they face when traveling because they either lack access to pretravel health services or do not understand the measures necessary to avoid health risks. Evidence shows first-and second-generation U.S. immigrant travelers, when traveling to their countries of origin to visit friends and relatives, may be at greater risk than the general public, for contracting infectious diseases.

The objectives of this project are to determine (i) whether travelers seek pretravel health information, (ii) where they access this information, (iii) travelers' baseline knowledge of prevention measures for diseases commonly associated with travel, and (iv) whether specific groups of travelers (i.e. first-and second-generation immigrants) lack information on or access to pretravel health recommendations and services. To accomplish these objectives, in partnership with Delta Airlines, CDC proposes to conduct voluntary, self-administered, anonymous, in-flight surveys of U.S. citizens and residents traveling abroad to areas where malaria, typhoid fever, and hepatitis A are endemic.

This preliminary project will focus on first-and second-generation U.S. immigrants from India visiting friends and relatives in India, where all three diseases are endemic. A study period of 2 to 3 months is estimated. Data from this project will fulfill Healthy People 2010 objectives for travelers. In addition, it will enable CDC to develop appropriate educational interventions for high-risk travelers and to gain a better understanding of the role of travel in emerging infectious diseases. The survey tool will take approximately 15 minutes to complete.

There are no costs to respondents, only the time it takes to complete the survey.

Number of respondents | Number of responses/ respondent | Average burden/ response (in hours) | Total burden hours
5,600 | 1 | 16/16 | 1,400

Dated: September 19, 2000.
Nancy Cheal,
Acting Associate Director for Policy Planning, and Evaluation, Centers for Disease Control and Prevention (CDC).

[FR Doc. 00-24531 Filed 9-22-00; 8:45 am]

BILLING CODE 4163-18-P